DEPARTMENT OF ENERGY

Federal Energy Regulatory Commission

[Project No. 4285-046]

City of Logan, Utah; Notice of Application Accepted for Filing, Ready for Environmental Analysis, Soliciting Comments, Motions to Intervene, Protests, Recommendations, Terms and Conditions, and Fishway Prescriptions

Take notice that the following hydroelectric application has been filed with the Commission and is available for public inspection:

a. Type of Proceeding: Amendment of License.

b. Project No.: 4285-046.

c. Date Filed: May 8, 2015.

d. Licensee: City of Logan, Utah.

e. Name of Project: Logan No. 2 Hydroelectric Project.

f. Location: The project is located on the Logan River, near the City of Logan, in Cache County, Utah. The project occupies federal lands administered by the Logan Ranger District, USDA Forest Service (USFS).

g. Filed Pursuant to: Federal Power Act, 16 U.S.C. 791a-825r.

h. Licensee Contact: City of Logan, Utah, Logan City Light and Power Department, 233 North Main Street, Logan, Utah 84321, Mark Montgomery at 435-716-9744 or Greg Clark at 208-906-7612.

i. FERC Contact: Mr. M Joseph Fayyad, (202) 502-8759, mo.fayyad@ferc.gov.

j. Deadline for filing comments, motions to intervene, protests, recommendations, terms and conditions, and prescriptions: 60 days from the issuance date of this notice; reply comments are due 105 days from the issuance date of this notice. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4285-046.

k. Description of Request: Based upon an inspection of the dam and intake structure, the licensee proposes to replace or rehabilitate several portions of these structures. The proposed work will include: (1) Replacement of spillway crest gates with Obermeyer weirs; (2) Replacement of spillway abutment walls; (3) Armoring the abutments of the dam, which may consist of a combination of riprap and/or roller compacted concrete. (4) Replacement of the penstock isolation gate (Radial Gate) with an Obermeyer weir gate; (5) Replacement of trash rack at intake structure; (6) Replacement of the low level sluice gatehouse; (7) Rehabilitating the upstream face of dam; (8) Dredging of about 100,000 cubic yards of sediment from the reservoir; (9) refurbishment of the electrical generating equipment, which includes replacement of the existing runners, wicket gates, and associated parts which are damaged; and (10) recoating the interior and exterior of the steel portion of the penstock to reduce corrosion potential.

l. This filing may be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE., Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, “MOTION TO INTERVENE”, “REPLY COMMENTS”, “RECOMMENDATIONS”, “TERMS AND CONDITIONS”, or “PRESCRIPTIONS”, as applicable; (2) set forth in the heading the name of the applicant and the project number of the application to which the filing responds; (3) furnish the name, address, and telephone number of the person protesting or intervening; and (4) otherwise comply with the requirements of 18 CFR 385.2001 through 385.2005. All comments, motions to intervene, recommendations, terms and conditions, or prescriptions must set forth their evidentiary basis and otherwise comply with the requirements of 18 CFR 4.34(b), and should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 7, 2015.
Kimberly D. Bose,
Secretary.

[FR Doc. 2015-17050 Filed 7-10-15; 8:45 am]

BILLING CODE 6717-01-P